NUCLEAR REGULATORY COMMISSION

[Docket No. 50-281]

Virginia Electric and Power Company, et al., Surry Power Station, Unit No. 2 Notice of Issuance of Amendment to Facility Operating License; Correction

AGENCY: Nuclear Regulatory Commission.

ACTION: Notice of Issuance; Correction.

SUMMARY: This document corrects a Notice of Issuance of Amendment to Facility Operating License appearing in the Federal Register on June 17, 2008 (73 FR 34346), for Surry Power Station, Unit No. 2. This notice was incorrectly put under the Section titled “Notice of Issuance of Amendments to Facility Operating Licenses and Final Determination of No Significant Hazards Consideration and Opportunity for a Hearing (Exigent Public Announcement or Emergency Circumstances).” It should have appeared under the Section titled “Notice of Issuance of Amendments to Facility Operating Licenses.”

FOR FURTHER INFORMATION CONTACT: Siva Lingam, Project Manager, Office of Nuclear Reactor Regulation, U.S. Nuclear Regulatory Commission, Washington, DC 20555-0001; telephone (301) 415-1564, e-mail: Siva.Lingam@nrc.gov.

Dated in Rockville, Maryland, this 14th day of July 2008.
For the Nuclear Regulatory Commission.
Siva P. Lingam,
Project Manager, Plant Licensing Branch II-1, Division of Operating Reactor Licensing, Office of Nuclear Reactor Regulation.

[FR Doc. E8-16576 Filed 7-18-08; 8:45 am]

BILLING CODE 7590-01-P